DEPARTMENT OF HEALTH AND HUMAN SERVICES

Administration for Children and Families

[OMB No. 0970-0506]

Proposed Information Collection Activity; Evaluation of Employment Coaching for TANF and Related Populations

AGENCY: Office of Planning, Research, and Evaluation, Administration for Children and Families, HHS.

ACTION: Request for Public Comment.

SUMMARY: The Administration for Children and Families (ACF) is proposing to continue ongoing approved data collection activities and add additional activities for the sample enrolled in the Evaluation of Employment Coaching for TANF and Related Populations (Office of Management and Budget (OMB)#: 0970-0506). This includes (1) an extension for the previously approved second follow-up survey data collection; (2) new data collection through a third follow-up survey; and (3) new data collection through follow-up semi-structured interviews with management, staff, supervisors, and participants.

DATES: Comments due within 60 days of publication. In compliance with the requirements of the Paperwork Reduction Act of 1995, ACF is soliciting public comment on the specific aspects of the information collection described above.

ADDRESSES: You can obtain copies of the proposed collection of information and submit comments by emailing OPREinfocollection@acf.hhs.gov. Identify all requests by the title of the information collection.

SUPPLEMENTARY INFORMATION:

Description: This study is providing an opportunity to learn more about the potential of coaching to help clients achieve self-sufficiency and other desired employment-related outcomes. It includes the following employment programs: MyGoals for Employment Success in Baltimore; MyGoals for Employment Success in Houston; Family Development and Self-Sufficiency program in Iowa; LIFT in New York City, Chicago, and Los Angeles; Work Success in Utah; and Goal4 It! in Jefferson County, Colorado. Together, these programs include Temporary Assistance for Needy Families (TANF) agencies and other public or private employment programs that serve low-income individuals. Each site has a robust coaching component and the capacity to conduct a rigorous impact evaluation. This study is providing information on whether coaching helps people develop self-regulation skills, obtain and retain jobs, advance in their careers, move toward self-sufficiency, and improve their overall well-being. To meet these objectives, this study includes an impact and implementation study, as approved by OMB. The approved impact study initially included two follow-up surveys at approximately 9 months and 21 months, respectively, after random assignment.

This submission, in part, builds on the existing impact study, which randomly assigned participants to either a “program group,” who were paired with a coach, or to a “control group,” who were not paired with a coach. The effectiveness of the coaching will be determined by differences between members of the program and control groups in outcomes such as obtaining and retaining employment, earnings, measures of self-sufficiency, and measures of self-regulation.

The proposed extension for the second follow-up survey data collection under OMB #0970-0506 will allow sample members who enrolled at the end of the study intake period to complete the second follow-up survey. There are no changes to the previously approved information collection. Additionally, the proposed new information collection through a third follow-up survey will provide information about participants at least 4 years after random assignment. This survey will provide rigorous evidence on whether the coaching interventions are effective, for whom, and under what circumstances over the longer term. The information collected at a later follow-up point will be used to assess how employment coaching might have a continued effect on participants long after they have left coaching programs.

This submission also builds on the existing implementation study. The proposed new information collection through follow-up semi-structured interviews with management, staff, supervisors, and participants under OMB #0970-0506 will enable additional input from employment coaching program staff and participants on the processes and perceptions of employment coaching. The proposed new data collection instruments will provide descriptive information about how coaches form trusting relationships with their participants and other key topics that have emerged as important in analysis of previously collected study data.

Respondents: Individuals enrolled in the Evaluation of Employment Coaching for TANF and Related Populations study. All participants will be able to opt out of participating in the data collection activities.

Annual Burden Estimates

Burden Remaining From Previously Approved Information Collections
[Note: Data collection for the second follow-up is expected to be completed within the next year.]
Instrument | Number of respondents (total over request period) | Number of responses per respondent (total over request period) | Average burden per response (in hours) | Annual burden (in hours)
Second follow-up survey | 824 | 1 | 0.75 | 618

Estimated Total Annual Burden Hours: 618.

New Burden Requested
[Note: New data collection is expected to take place over about 3 years]
Instrument | Number of respondents (total over request period) | Number of responses per respondent (total over request period) | Average burden per response (in hours) | Total burden (in hours) | Annual burden (in hours)
Third follow-up survey | 4,239 | 1 | 0.75 | 3,179 | 1,060
Semi-structured management interviews | 20 | 1 | 1 | 20 | 7
Semi-structured staff and supervisor interviews | 40 | 1 | 1 | 40 | 13
Semi-structured participant interviews, MyGoals | 14 | 1 | 2.5 | 35 | 12
Semi-structured participant interviews, LIFT | 7 | 1 | 2 | 14 | 5
Semi-structured participant interviews, FaDSS and Goal4 It! | 14 | 1 | 1.5 | 21 | 7

Estimated Total Annual Burden Hours: 1,104.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 613.

Mary B. Jones,
ACF/OPRE Certifying Officer.

[FR Doc. 2022-02920 Filed 2-10-22; 8:45 am]

BILLING CODE 4184-09-P